DEPARTMENT OF HEALTH AND HUMAN SERVICES

Secretary's Advisory Committee on Re-Designation of Head Start Grantees

AGENCY: U.S. Department of Health and Human Services (HHS).

ACTION: Notice; FACA Committee Meetings Announcement.

Pursuant to Public Law 92-463, the Federal Advisory Committee Act, as amended (5 U.S.C. appendix 2), notice is hereby given of the first meeting of the Secretary's Advisory Committee on Re-Designation of Head Start Grantees, Department of Health and Human Services (HHS). The meeting will be held from approximately 10:30 a.m. to 5 p.m. on Wednesday, March 12, 2008, and from 9 a.m. to 5 p.m. on Thursday, March 13, 2008, at The Liaison Capitol Hill, 415 New Jersey Avenue, NW., in Washington, DC. The meeting will be open to the public; however, seating is limited and preregistration is encouraged (see below).

FOR FURTHER INFORMATION CONTACT: Colleen Rathgeb, Office of Head Start, e-mail colleen.rathgeb@acf.hhs.gov or (202) 205-7378.

SUPPLEMENTARY INFORMATION: The Improving Head Start for School Readiness Act of 2007 [Pub. L. 110-134, section 641(c)(2) [42 U.S.C. 9836]] requires the Secretary to develop a system for designation renewal to determine if Head Start agencies are delivering high-quality and comprehensive Head Start programs that meet the educational, health, nutritional, and social needs of the children and families they serve, and meet program and financial management requirements and the program performance standards. The Advisory Committee on Re-Designation of Head Start Grantees will provide advice and recommendations on the development of a transparent, reliable and valid system for designation renewal as required under the statute.

The Advisory Committee will hear presentations on and discuss: (1) The grantee application process; (2) risk management; (3) classroom quality; (4) program monitoring; budgets, fiscal management, and annual audits; (5) the Program Information Report and other data sources; and (6) plans for future work of the Committee.

The meeting will be open to the public; however, seating is limited and preregistration is encouraged. To pre-register, please e-mail AdvisoryCommittee@pal-tech.com with “Meeting Registration” in the subject line, or call Tara Nordlander at 703-243-0495 by 5 p.m. EST, March 10, 2008. Registration must include your name, affiliation, phone number, and days attending. If you require a sign language interpreter or other special assistance, please call Tara Nordlander at 703-243-0495 as soon as possible and no later than March 3, 2008.

Written comments or suggestions on the re-designation process may be submitted electronically to AdvisoryCommittee@pal-tech.com with “Public Comment” in the subject line. These will be included in the public record. HHS recommends that you include your name, mailing address, and an e-mail address or other contact information in the body of your comment. This ensures that you can be identified as the submitter of the comment, and it allows HHS to contact you if further information on the substance of the comment is needed or if your comment cannot be read due to technical difficulties. HHS's policy is that HHS will not edit your comment, and any identifying or contact information provided in the body of a comment will be included as part of the comment placed in the official public record. If HHS cannot read your comment due to technical difficulties and cannot contact you for clarification, HHS may not be able to consider your comment.

Documents provided to the Committee will be available upon written request beginning on March 17, 2008. Requests should be sent to AdvisoryCommittee@pal-tech.com with “Materials Request” in the subject line and should include your name, mailing address, and an e-mail address or other contact information.

Dated: February 20, 2008.
Daniel C. Schneider,
Acting Assistant Secretary for Children and Families.

[FR Doc. E8-3641 Filed 2-25-08; 8:45 am]

BILLING CODE 4184-01-P